DEPARTMENT OF LABOR

Office of Workers' Compensation Programs

Advisory Board on Toxic Substances and Worker Health

ACTION: Extension of deadline for nominations to serve on the advisory board on toxic substances and worker health for part E of the Energy Employees Occupational Illness Compensation Program Act (EEOICPA) from August 20, 2015 to September 4, 2015.

SUMMARY: The Secretary of Labor (Secretary) invites interested parties to submit nominations for individuals to serve on the Advisory Board on Toxic Substances and Worker Health for Part E of the Energy Employees Occupational Illness Compensation Program Act (EEOICPA).

DATES: Nominations for individuals to serve on the Board must be submitted (postmarked, if sending by mail; submitted electronically; or received, if hand delivered) by September 4, 2015.

ADDRESSES: People interested in being nominated for the Board are encouraged to review the Federal Register notice on nominations for membership and submit the requested information by September 4, 2015. Nominations may be submitted, including attachments, by any of the following methods:

• Electronically: Send to: EnergyAdvisoryBoard@dol.gov (specify in the email subject line, “Advisory Board on Toxic Substances and Worker Health nomination”).

• Mail, express delivery, hand delivery, messenger, or courier service: Submit one copy of the documents listed above to the following address: U.S. Department of Labor, Office of Workers' Compensation Programs, Advisory Board on Toxic Substances and Worker Health, Room S-3522, 200 Constitution Ave. NW., Washington, DC 20210.

Follow-up communications with nominees may occur as necessary through the process.

FOR FURTHER INFORMATION CONTACT: For questions, contact Sam Shellenberger, Office of Workers' Compensation Programs, at shellenberger.sam@dol.gov, or Carrie Rhoads, Office of Workers' Compensation Programs, at rhoads.carrie@dol.gov.

SUPPLEMENTARY INFORMATION: The Advisory Board on Toxic Substances and Worker Health (the Board) is mandated by Section 3687 of EEOICPA. The Secretary of Labor established the Board under this authority and Executive Order 13699 (June 26, 2015) and in accordance with the provisions of the Federal Advisory Committee Act (FACA), as amended, 5 U.S.C. App. 2. Notice of the establishment of the Advisory Board was published in the Federal Register on July 21, 2015. Notice of solicitation for nominations to serve on the Advisory Board was also published on July 21, 2015. The deadline for submission of nominations was 30 days from the date of publication, or August 20, 2015. The Secretary now extends the deadline for nomination by an additional 15 days, to September 4, 2015.

Gary A. Steinberg,
Deputy Director, Office of Workers' Compensation Programs.

[FR Doc. 2015-20408 Filed 8-17-15; 8:45 am]

BILLING CODE 4510-24-P